ENVIRONMENTAL PROTECTION AGENCY

40 CFR Ch. I

[Docket Number EPA-HQ-OA-2016-0203; FRL-9952-35-OP]

Fall 2016 Regulatory Agenda

AGENCY: Environmental Protection Agency.

ACTION: Semiannual regulatory flexibility agenda and semiannual regulatory agenda.

SUMMARY: The Environmental Protection Agency (EPA) publishes the semiannual regulatory agenda online (the e-Agenda) at http://www.reginfo.gov and at www.regulations.gov to update the public. This document contains information about:

• Regulations in the semiannual regulatory agenda that are under development, completed, or canceled since the last agenda;

• Retrospective reviews of existing regulations; and

• Reviews of regulations with small business impacts under Section 610 of the Regulatory Flexibility Act.

FOR FURTHER INFORMATION CONTACT: If you have questions or comments about a particular action, please get in touch with the agency contact listed in each agenda entry. If you have general questions about the semiannual regulatory agenda, please contact: Caryn Muellerleile (muellerleile.caryn@epa.gov; 202-564-2855).

Table of Contents

I. Introduction

A. EPA's Regulatory Information

B. What key statutes and Executive Orders guide EPA's rule and policymaking process?

C. How can you be involved in EPA's rule and policymaking process?

II. Semiannual Regulatory Agenda

A. What actions are included in the e-Agenda and the Regulatory Flexibility Agenda?

B. How is the E-Agenda organized?

C. What information is in the Regulatory Flexibility Agenda and the E-Agenda?

D. How can you find out about rulemakings that start up after the Regulatory Agenda is signed?

E. What tools are available for mining Regulatory Agenda data and for finding more about EPA rules and policies?

III. Review of Regulations Under 610 of the Regulatory Flexibility Act

A. Reviews of Rules With Significant Impacts on a Substantial Number of Small Entities

B. What other special attention does EPA give to the impacts of rules on small businesses, small governments, and small nonprofit organizations?

IV. Thank You for Collaborating With Us

SUPPLEMENTARY INFORMATION:

I. Introduction

EPA is committed to a regulatory strategy that effectively achieves the Agency's mission of protecting the environment and the health, welfare, and safety of Americans while also supporting economic growth, job creation, competitiveness, and innovation. EPA publishes the Semiannual Regulatory Agenda to update the public about regulatory activity undertaken in support of this mission. Within the Semiannual Regulatory Agenda, EPA provides notice of our plans to review, propose, and issue regulations.

EPA's Semiannual Regulatory Agenda also includes information about rules that may have a significant economic impact on a substantial number of small entities, and review of those regulations under the Regulatory Flexibility Act, as amended.

Within this document, EPA explains in greater detail the types of actions and information available in the Semiannual Regulatory Agenda, the opportunity to suggest regulations that may be appropriate for retrospective review, and actions that are currently undergoing review specifically for impacts on small entities.

A. EPA's Regulatory Information

“E-Agenda,” “online regulatory agenda,” and “semiannual regulatory agenda” all refer to the same comprehensive collection of information that, until 2007, was published in the Federal Register but now is only available through an online database, at both www.reginfo.gov/ and www.regulations.gov.

“Regulatory Flexibility Agenda” refers to a document that contains information about regulations that may have a significant impact on a substantial number of small entities. We continue to publish it in the Federal Register pursuant to the Regulatory Flexibility Act of 1980. This document is available at http://www.gpo.gov/fdsys/search/home.action.

“Unified Regulatory Agenda” refers to the collection of all agencies' agendas with an introduction prepared by the Regulatory Information Service Center facilitated by the General Service Administration.

“Regulatory Agenda Preamble” refers to the document you are reading now. It appears as part of the Regulatory Flexibility Agenda and introduces both the Regulatory Flexibility Agenda and the e-Agenda.

“Regulatory Development and Retrospective Review Tracker” refers to an online portal to EPA's priority rules and retrospective reviews of existing regulations. This portal is available at www.epa.gov/regdarrt/.

“Retrospective Review Plan” is EPA's plan under Executive Orders 13563 and 13610 to periodically review existing regulations to determine whether any may be modified, streamlined, expanded, or repealed in order to make the agency's regulatory program more effective or less burdensome in achieving the regulatory objectives. This Plan and subsequent progress updates are available at https://www.epa.gov/laws-regulations/retrospective-review-history.

“610 Review” is an action EPA is committed to reviewing within ten years of promulgating a final rule that has or may have a significant economic impact on a substantial number of small entities. EPA maintains a list of these actions at https://www.epa.gov/reg-flex/section-610-reviews.

B. What key statutes and Executive Orders guide EPA's rule and policymaking process?

A number of environmental laws authorize EPA's actions, including but not limited to:

• Clean Air Act (CAA),

• Clean Water Act (CWA),

• Comprehensive Environmental Response, Compensation, and Liability Act (CERCLA, or Superfund),

• Emergency Planning and Community Right-to-Know Act (EPCRA),

• Federal Insecticide, Fungicide, and Rodenticide Act (FIFRA),

• Resource Conservation and Recovery Act (RCRA),

• Safe Drinking Water Act (SDWA), and

• Toxic Substances Control Act (TSCA).

Not only must EPA comply with environmental laws, but also administrative legal requirements that apply to the issuance of regulations, such as: The Administrative Procedure Act (APA), the Regulatory Flexibility Act (RFA) as amended by the Small Business Regulatory Enforcement Fairness Act (SBREFA), the Unfunded Mandates Reform Act (UMRA), the Paperwork Reduction Act (PRA), the National Technology Transfer and Advancement Act (NTTAA), and the Congressional Review Act (CRA).

EPA also meets a number of requirements contained in numerous Executive Orders: 12866, “Regulatory Planning and Review” (58 FR 51735, Oct. 4, 1993), as supplemented by Executive Order 13563, “Improving Regulation and Regulatory Review” (76 FR 3821, Jan. 21, 2011); 12898, “Environmental Justice” (59 FR 7629, Feb. 16, 1994); 13045, “Children's Health Protection” (62 FR 19885, Apr. 23, 1997); 13132, “Federalism” (64 FR 43255, Aug. 10, 1999); 13175, “Consultation and Coordination with Indian Tribal Governments” (65 FR 67249, Nov. 9, 2000); 13211, “Actions Concerning Regulations That Significantly Affect Energy Supply, Distribution, or Use” (66 FR 28355, May 22, 2001).

In addition to meeting its mission goals and priorities, EPA reviews its existing regulations under Executive Order 13563, “Improving Regulation and Regulatory Review” and Executive Order 13610, “Identifying and Reducing Regulatory Burdens.” These Executive orders provide for periodic retrospective review of existing regulations and are intended to determine whether any such regulations should be modified, streamlined, expanded, or repealed, so as to make the Agency's regulatory program more effective or less burdensome in achieving its regulatory objectives.

C. How can you be involved in EPA's rule and policymaking process?

You can make your voice heard by getting in touch with the contact person provided in each agenda entry. EPA encourages you to participate as early in the process as possible. You may also participate by commenting on proposed rules published in the Federal Register (FR).

Instructions on how to submit your comments are provided in each Notice of Proposed Rulemaking (NPRM). To be most effective, comments should contain information and data that support your position and you also should explain why EPA should incorporate your suggestion in the rule or other type of action. You can be particularly helpful and persuasive if you provide examples to illustrate your concerns and offer specific alternatives.

EPA believes its actions will be more cost effective and protective if the development process includes stakeholders working with us to help identify the most practical and effective solutions to problems. EPA encourages you to become involved in its rule and policymaking process. For more information about public involvement in EPA activities, please visit www.epa.gov/open.

II. Semiannual Regulatory Agenda

A. What actions are included in the e-Agenda and the Regulatory Flexibility Agenda?

EPA includes regulations in the e-Agenda. However, there is no legal significance to the omission of an item from the agenda, and EPA generally does not include the following categories of actions:

• Administrative actions such as delegations of authority, changes of address, or phone numbers;

• Under the CAA: Revisions to state implementation plans; equivalent methods for ambient air quality monitoring; deletions from the new source performance standards source categories list; delegations of authority to states; area designations for air quality planning purposes;

• Under FIFRA: Registration-related decisions, actions affecting the status of currently registered pesticides, and data call-ins;

• Under the Federal Food, Drug, and Cosmetic Act: Actions regarding pesticide tolerances and food additive regulations;

• Under RCRA: Authorization of State solid waste management plans; hazardous waste delisting petitions;

• Under the CWA: State Water Quality Standards; deletions from the section 307(a) list of toxic pollutants; suspensions of toxic testing requirements under the National Pollutant Discharge Elimination System (NPDES); delegations of NPDES authority to States;

• Under SDWA: Actions on State underground injection control programs.

Meanwhile, the Regulatory Flexibility Agenda includes:

• Actions likely to have a significant economic impact on a substantial number of small entities.

• Rules the Agency has identified for periodic review under section 610 of the RFA.

EPA has one ongoing 610 review and is completing one 610 review at this time.

B. How is the e-Agenda organized?

You can choose how to organize the agenda entries online by specifying the characteristics of the entries of interest in the desired individual data fields for both the www.reginfo.gov and www.regulations.gov versions of the e-Agenda. You can sort based on the following characteristics: EPA subagency; stage of rulemaking, which is explained below; alphabetically by title; and by the Regulation Identifier Number (RIN), which is assigned sequentially when an action is added to the agenda.

Each entry in the Agenda is associated with one of five rulemaking stages. The rulemaking stages are:

1. Prerule Stage—This section includes EPA actions generally intended to determine whether the agency should initiate rulemaking. Prerulemakings may include anything that influences or leads to rulemaking, such as Advance Notices of Proposed Rulemaking (ANPRMs), studies or analyses of the possible need for regulatory action.

2. Proposed Rule Stage—This section includes EPA rulemaking actions that are within a year of proposal (publication of Notices of Proposed Rulemakings [NPRMs]).

3. Final Rule Stage—This section includes rules that will be issued as a final rule within a year.

4. Long-Term Actions—This section includes rulemakings for which the next scheduled regulatory action is after November 2017. We urge you to explore becoming involved even if an action is listed in the Long-Term category.

5. Completed Actions—This section contains actions that have been promulgated and published in the Federal Register since publication of the spring 2016 Agenda. It also includes actions that EPA is no longer considering and has elected to “withdraw.” EPA also announces the results of any RFA section 610 review in this section of the agenda.

C. What information is in the Regulatory Flexibility Agenda and the e-Agenda?

The Regulatory Flexibility Agenda entries include only the nine categories of information that are required by the Regulatory Flexibility Act of 1980 and by Federal Register Agenda printing requirements: Sequence Number, RIN, Title, Description, Statutory Authority, Section 610 Review, if applicable, Regulatory Flexibility Analysis Required, Schedule and Contact Person. Note that the electronic version of the Agenda (E-Agenda) has more extensive information on each of these actions.

E-Agenda entries include:

Title: A brief description of the subject of the regulation. The notation “Section 610 Review” follows the title if we are reviewing the rule as part of our periodic review of existing rules under section 610 of the RFA (5 U.S.C. 610).

Priority: Entries are placed into one of five categories described below.

a. Economically Significant: Under Executive Order 12866, a rulemaking that may have an annual effect on the economy of $100 million or more, or adversely affect in a material way the economy, a sector of the economy, productivity, competition, jobs, the environment, public health or safety, or State, local, or tribal governments or communities.

b. Other Significant: A rulemaking that is not economically significant but is considered significant for other reasons. This category includes rules that may:

1. Create a serious inconsistency or otherwise interfere with an action taken or planned by another agency;

2. Materially alter the budgetary impact of entitlements, grants, user fees, or loan programs, or the rights and obligations of recipients; or

3. Raise novel legal or policy issues arising out of legal mandates, the President's priorities, or the principles in Executive Order 12866.

c. Substantive, Nonsignificant: A rulemaking that has substantive impacts but is not Significant, Routine and Frequent, or Informational/Administrative/Other.

d. Routine and Frequent: A rulemaking that is a specific case of a recurring application of a regulatory program in the Code of Federal Regulations (e.g., certain State Implementation Plans, National Priority List updates, Significant New Use Rules, State Hazardous Waste Management Program actions, and Tolerance Exemptions). If an action that would normally be classified Routine and Frequent is reviewed by the Office of Management and Budget under EO 12866, then we would classify the action as either “Economically Significant” or “Other Significant.”

e. Informational/Administrative/Other: An action that is primarily informational or pertains to an action outside the scope of Executive Order 12866.

Major: A rule is “major” under 5 U.S.C. 801 (Pub. L. 104-121) if it has resulted or is likely to result in an annual effect on the economy of $100 million or more or meets other criteria specified in that Act.

Unfunded Mandates: Whether the rule is covered by section 202 of the Unfunded Mandates Reform Act of 1995 (Pub. L. 104-4). The Act requires that, before issuing an NPRM likely to result in a mandate that may result in expenditures by State, local, and tribal governments, in the aggregate, or by the private sector of more than $100 million in 1 year.

Legal Authority: The sections of the United States Code (U.S.C.), Public Law (Pub. L.), Executive Order (E.O.), or common name of the law that authorizes the regulatory action.

CFR Citation: The sections of the Code of Federal Regulations that would be affected by the action.

Legal Deadline: An indication of whether the rule is subject to a statutory or judicial deadline, the date of that deadline, and whether the deadline pertains to a Notice of Proposed Rulemaking, a Final Action, or some other action.

Abstract: A brief description of the problem the action will address.

Timetable: The dates and citations (if available) for all past steps and a projected date for at least the next step for the regulatory action. A date displayed in the form 10/00/16 means the agency is predicting the month and year the action will take place but not the day it will occur. For some entries, the timetable indicates that the date of the next action is “to be determined.”

Regulatory Flexibility Analysis Required: Indicates whether EPA has prepared or anticipates that it will be preparing a regulatory flexibility analysis under section 603 or 604 of the RFA. Generally, such an analysis is required for proposed or final rules subject to the RFA that EPA believes may have a significant economic impact on a substantial number of small entities.

Small Entities Affected: Indicates whether the rule is anticipated to have any effect on small businesses, small governments or small nonprofit organizations.

Government Levels Affected: Indicates whether the rule may have any effect on levels of government and, if so, whether the governments are State, local, tribal, or Federal.

Federalism Implications: Indicates whether the action is expected to have substantial direct effects on the States, on the relationship between the National Government and the States, or on the distribution of power and responsibilities among the various levels of government.

Energy Impacts: Indicates whether the action is a significant energy action under Executive Order 13211.

Sectors Affected: Indicates the main economic sectors regulated by the action. The regulated parties are identified by their North American Industry Classification System (NAICS) codes. These codes were created by the Census Bureau for collecting, analyzing, and publishing statistical data on the U.S. economy. There are more than 1,000 NAICS codes for sectors in agriculture, mining, manufacturing, services, and public administration.

International Trade Impacts: Indicates whether the action is likely to have international trade or investment effects, or otherwise be of international interest.

Agency Contact: The name, address, phone number, and email address, if available, of a person who is knowledgeable about the regulation.

Additional Information: Other information about the action including docket information.

URLs: For some actions, the Internet addresses are included for reading copies of rulemaking documents, submitting comments on proposals, and getting more information about the rulemaking and the program of which it is a part. (Note: To submit comments on proposals, you can go to the associated electronic docket, which is housed at www.regulations.gov. Once there, follow the online instructions to access the docket in question and submit comments. A docket identification [ID] number will assist in the search for materials.)

RIN: The Regulation Identifier Number is used by OMB to identify and track rulemakings. The first four digits of the RIN identify the EPA office with lead responsibility for developing the action.

D. How can you find out about rulemakings that start up after the Regulatory Agenda is signed?

EPA posts monthly information of new rulemakings that the Agency's senior managers have decided to develop. This list is also distributed via email. You can find the current list, known as the Action Initiation List (AIL), at http://www.epa.gov/laws-regulations/actions-initiated-month where you will also find information about how to get an email notification when a new list is posted.

E. What tools are available for mining Regulatory Agenda data and for finding more about EPA rules and policies?

1. The http://www.reginfo.gov/ Searchable Database

The Regulatory Information Service Center and Office of Information and Regulatory Affairs have a Federal regulatory dashboard that allows users to view the Regulatory Agenda database (http://www.reginfo.gov/public/do/eAgendaMain), which includes search, display, and data transmission options.

2. Subject Matter EPA Web sites

Some actions listed in the Agenda include a URL that provides additional information about the action.

3. Public Dockets

When EPA publishes either an Advance Notice of Proposed Rulemaking (ANPRM) or a Notice of Proposed Rulemaking (NPRM) in the Federal Register, the Agency typically establishes a docket to accumulate materials throughout the development process for that rulemaking. The docket serves as the repository for the collection of documents or information related to a particular Agency action or activity. EPA most commonly uses dockets for rulemaking actions, but dockets may also be used for RFA section 610 reviews of rules with significant economic impacts on a substantial number of small entities and for various non-rulemaking activities, such as Federal Register documents seeking public comments on draft guidance, policy statements, information collection requests under the PRA, and other non-rule activities. Docket information should be in that action's agenda entry. All of EPA's public dockets can be located at www.regulations.gov.

4. EPA's Regulatory Development and Retrospective Review Tracker

EPA's Regulatory Development and Retrospective Review Tracker (www.epa.gov/regdarrt/) serves as a portal to EPA's priority rules, providing you with earlier and more frequently updated information about Agency regulations than is provided by the Regulatory Agenda. It also provides information about retrospective reviews of existing regulations. Not all of EPA's Regulatory Agenda entries appear on Reg DaRRT; only priority rulemakings can be found on this Web site.

III. Review of Regulations Under 610 of the Regulatory Flexibility Act

A. Reviews of Rules With Significant Impacts on a Substantial Number of Small Entities

Section 610 of the RFA requires that an agency review, within 10 years of promulgation, each rule that has or will have a significant economic impact on a substantial number of small entities. At this time, EPA has one ongoing 610 review and is completing one 610 review.

Review title | RIN | Docket ID No. | Status
610 Review of Control of Hazardous Air Pollutants From Mobile Sources | 2060-AS88 | EPA-HQ-OAR-2016-0175 | Complete.
Section 610 Review of Lead-Based Paint Activities; Training and Certification for Renovation and Remodeling Section 402(c)(3) | 2070-AK17 | EPA-HQ-OPPT-2016-0126 | Ongoing.

EPA established official public dockets for these 610 Reviews. EPA is no longer accepting comment on the reviews themselves, but comments received earlier in 2016 can be accessed at https://www.regulations.gov/ with docket identification number EPA-HQ-OAR-2016-0175 or EPA-HQ-OPPT-2016-0126.

B. What other special attention does EPA give to the impacts of rules on small businesses, small governments, and small nonprofit organizations?

For each of EPA's rulemakings, consideration is given to whether there will be any adverse impact on any small entity. EPA attempts to fit the regulatory requirements, to the extent feasible, to the scale of the businesses, organizations, and governmental jurisdictions subject to the regulation.

Under RFA as amended by SBREFA, the Agency must prepare a formal analysis of the potential negative impacts on small entities, convene a Small Business Advocacy Review Panel (proposed rule stage), and prepare a Small Entity Compliance Guide (final rule stage) unless the Agency certifies a rule will not have a significant economic impact on a substantial number of small entities. For more detailed information about the Agency's policy and practice with respect to implementing RFA/SBREFA, please visit EPA's RFA/SBREFA Web site at www.epa.gov/reg-flex.

IV. Thank You for Collaborating With Us

Finally, we would like to thank those of you who choose to join with us in making progress on the complex issues involved in protecting human health and the environment. Collaborative efforts such as EPA's open rulemaking process are a valuable tool for addressing the problems we face, and the regulatory agenda is an important part of that process.

Dated: September 13, 2016.
Shannon Kenny,
Principal Deputy Associate Administrator, Office of Policy.

10—Prerule Stage
Sequence No. | Title | Regulation Identifier No.
386 | Section 610 Review of Control of Hazardous Air Pollutants From Mobile Sources (Completion of a Section 610 Review) | 2060-AS88

10—Final Rule Stage
Sequence No. | Title | Regulation Identifier No.
387 | Modernization of the Accidental Release Prevention Regulations Under Clean Air Act (Reg Plan Seq No. 138) | 2050-AG82
References in boldface appear in The Regulatory Plan in part II of this issue of the Federal Register.

10—Completed Actions
Sequence No. | Title | Regulation Identifier No.
388 | Greenhouse Gas Emissions and Fuel Efficiency Standards for Medium- and Heavy-Duty Engines and Vehicles—Phase 2 | 2060-AS16
389 | Oil and Natural Gas Sector: Emission Standards for New, Reconstructed, and Modified Sources | 2060-AS30

35—Prerule Stage
Sequence No. | Title | Regulation Identifier No.
390 | Section 610 Review of Lead-Based Paint Activities; Training and Certification for Renovation and Remodeling Section 402(c)(3) (Section 610 Review) | 2070-AK17

35—Proposed Rule Stage
Sequence No. | Title | Regulation Identifier No.
391 | N-Methylpyrrolidone (NMP) and Methylene Chloride; Rulemaking Under TSCA Section 6(a) (Reg Plan Seq No. 125) | 2070-AK07
392 | Trichloroethylene (TCE); Rulemaking Under TSCA Section 6(a); Vapor Degreasing (Reg Plan Seq No. 126) | 2070-AK11
References in boldface appear in The Regulatory Plan in part II of this issue of the Federal Register.

35—Final Rule Stage
Sequence No. | Title | Regulation Identifier No.
393 | Formaldehyde Emission Standards for Composite Wood Products | 2070-AJ44

60—Proposed Rule Stage
Sequence No. | Title | Regulation Identifier No.
394 | Financial Responsibility Requirements Under CERCLA Section 108(b) for Classes of Facilities in the Hardrock Mining Industry (Reg Plan Seq No. 130) | 2050-AG61
References in boldface appear in The Regulatory Plan in part II of this issue of the Federal Register.

ENVIRONMENTAL PROTECTION AGENCY (EPA)

10

Prerule Stage

386. Section 610 Review of Control of Hazardous Air Pollutants From Mobile Sources (Completion of a Section 610 Review)

Legal Authority: 5 U.S.C. 610

Abstract: The rulemaking “Control of Hazardous Air Pollutants From Mobile Sources” was finalized by the EPA in February 2007 (72 FR 8428, February 26, 2007). This program established stringent new controls on gasoline, passenger vehicles, and gas cans to further reduce emissions of benzene and other mobile source air toxics. The EPA developed a Small Entity Compliance Guide, which provides descriptions of the regulations and small entity provisions, Q&As, and other helpful compliance information. This new entry in the regulatory agenda announces that EPA has reviewed this action pursuant to section 610 of the Regulatory Flexibility Act (5 U.S.C. 610) to determine if the provisions that could affect small entities should be continued without change, or should be rescinded or amended to minimize adverse economic impacts on small entities. As part of this review, EPA solicited comments on the following factors: (1) The continued need for the rule; (2) the nature of complaints or comments received from the public concerning the rule; (3) the complexity of the rule; (4) the extent to which the rule overlaps, duplicates, or conflicts with other Federal, State, or local government rules; and (5) the degree to which the technology, economic conditions or other factors have changed in the area affected by the rule. The EPA received one comment about the program unrelated to the impact of the rulemaking on small entities. The current mobile source air toxics standards program provided substantial flexibility for regulated entities, especially small entities, and does not warrant revision at this time. See EPA's report summarizing the results of this review in the docket EPA-HQ-OAR-2016-0175. This docket can be accessed at www.regulations.gov.

Timetable:

Action | Date | FR Cite
Final Rule | 02/26/07 | 72 FR 8427
Begin Review | 06/09/16 | 81 FR 37373
End Review | 11/00/16 |

Regulatory Flexibility Analysis Required: No.

Agency Contact: Tom Eagles, Environmental Protection Agency, Office of Air and Radiation, 6103A, 1200 Pennsylvania Avenue NW., Washington, DC 20460, Phone: 202 564-1952, Fax: 202 564-1554, Email: eagles.tom@epamail.epa.gov.

RIN: 2060-AS88

ENVIRONMENTAL PROTECTION AGENCY (EPA)

10

Final Rule Stage

387. Modernization of the Accidental Release Prevention Regulations Under Clean Air Act

Regulatory Plan: This entry is Seq. No. 138 in part II of this issue of the Federal Register.

RIN: 2050-AG82

ENVIRONMENTAL PROTECTION AGENCY (EPA)

10

Completed Actions

388. Greenhouse Gas Emissions and Fuel Efficiency Standards for Medium-and Heavy-Duty Engines and Vehicles—Phase 2

Legal Authority: 42 U.S.C. 7401 et seq. Clean Air Act

Abstract: The EPA and the Department of Transportation, in close coordination with the California Air Resources Board, developed a comprehensive National Program for Medium- and Heavy-Duty Vehicle Greenhouse Gas Emission and Fuel Efficiency Standards for model years beyond 2018. These standards will further reduce greenhouse gas emissions and fuel consumption from a wide range of on-road vehicles from semi-trucks to the largest pickup trucks and vans, and all types and sizes of work trucks and buses. This action is in continued response to the President's directive to take coordinated steps to produce a new generation of clean vehicles and follows the first ever Greenhouse Gas Emissions Standards and Fuel Efficiency Standards for Medium- and Heavy-Duty Engines and Vehicles.

Timetable:

Action | Date | FR Cite
NPRM | 07/13/15 | 80 FR 40137
NPRM Comment Period Extended | 07/28/15 | 80 FR 44863
Notice | 03/02/16 | 81 FR 10822
Final Rule | 10/25/16 | 81 FR 73478
Final Rule Effective | 12/27/16 |

Regulatory Flexibility Analysis Required: Yes.

Agency Contact: Matt Spears, Environmental Protection Agency, Office of Air and Radiation, Mail Code: ASD1, Ann Arbor, MI 48105, Phone: 734 214-4921, Fax: 734 214-4816, Email: spears.mattew@epa.gov.

Charles Moulis, Environmental Protection Agency, Office of Air and Radiation, NVFEL, Ann Arbor, MI 48105, Phone: 734 214-4826.

RIN: 2060-AS16

389. Oil and Natural Gas Sector: Emission Standards for New, Reconstructed, and Modified Sources

Legal Authority: 42 U.S.C. 7401 et seq. Clean Air Act

Abstract: Consistent with the White House Methane Strategy and the January 14, 2015, announcement of the EPA's approach to achieving GHG (in the form of methane) and volatile organic compounds (VOC) reductions from the oil and natural gas sector, this action finalized amendments to the new source performance standards (NSPS) at 40 CFR part 60, subpart OOOO and established new standards at 40 CFR part 60, subpart OOOOa. Amendments to subpart OOOO will improve implementation of the current NSPS. The new standards for the oil and natural gas source category at subpart OOOOa set standards for both greenhouse gases (GHGs) and volatile organic compounds (VOC). Except for the implementation improvements, and the new standards for GHGs, these requirements do not change the requirements for operations covered by the current standards at subpart OOOO. The proposed rule published September 18, 2015 and the final published June 3, 2016.

Timetable:

Action | Date | FR Cite
NPRM | 09/18/15 | 80 FR 56593
NPRM Comment Period End | 11/17/15 |
Final Rule | 06/03/16 | 81 FR 35823
Final Rule Effective | 08/02/16 |

Regulatory Flexibility Analysis Required: Yes.

Agency Contact: Amy Hambrick, Environmental Protection Agency, Office of Air and Radiation, Environmental Protection Agency, Office of Air and Radiation, E143-05, Research Triangle Park, NC 27711, Phone: 919 541-0964, Fax: 919 541-3470, Email: hambrick.amy@epa.gov.

RIN: 2060-AS30

ENVIRONMENTAL PROTECTION AGENCY (EPA)

35

Prerule Stage

390. Section 610 Review of Lead-Based Paint Activities; Training and Certification for Renovation and Remodeling Section 402(C)(3) (Section 610 Review)

Legal Authority: 5 U.S.C. 610

Abstract: EPA is continuing a review of the 2008 Lead; Renovation, Repair, and Painting Program (RRP) (73 FR 21692) pursuant to section 610 of the Regulatory Flexibility Act (RFA, 5 U.S.C. 610). The rule was amended in 2010 (75 FR 24802) and 2011 (76 FR 47918) to eliminate a provision for contractors to opt-out of prescribed work practices and to affirm the qualitative clearance of renovated or repaired spaces, respectively. Although the section 610 review only needs to address the 2008 RRP Rule, EPA will exercise its discretion to consider relevant comments to the 2010 and 2011 amendments. The RRP rule is intended to reduce exposure to lead hazard created by renovation, repair, and painting activities that disturb lead-based paint. The current rule establishes requirements for training renovators and dust sampling technicians; certifying renovators, dust sampling technicians, and renovation firms; accrediting providers of renovation and dust sampling technician training; and for renovation work practices. As part of this review, EPA is considering public comments on the following factors: (1) The continued need for the rule; (2) the nature of complaints or comments received concerning the rule; (3) the complexity of the rule; (4) the extent to which the rule overlaps, duplicates, or conflicts with other Federal, State, or local government rules; and (5) the length of time since the rule has been evaluated or the degree to which the technology, economic conditions or other factors have changed in the area affected by the rule. This review will also serve as an additional opportunity to provide comment on lead test kits, field testing alternatives and other broader RRP rule concerns as referenced in 80 FR 79335 and 80 FR 27621.

Timetable:

Action | Date | FR Cite
Final Rule | 04/22/08 | 73 FR 21691
Begin Review | 06/09/16 | 81 FR 37373
Comment Period Extended | 08/08/16 | 81 FR 52393
Comment Period Extended End | 09/07/16 |
End Review | 01/00/17 |

Regulatory Flexibility Analysis Required: No.

Agency Contact: Jonathan Shafer, Environmental Protection Agency, Office of Chemical Safety and Pollution Prevention, 7404T, 1200 Pennsylvania Avenue NW., Washington, DC 20460, Phone: 202 564-0789, Email: shafer.jonathan@epa.gov.

Michelle Price, Environmental Protection Agency, Office of Chemical Safety and Pollution Prevention, 7404T, 1200 Pennsylvania Avenue NW., Washington, DC 20460, Phone: 202 566-0744, Email: price.michelle@epa.gov.

RIN: 2070-AK17

ENVIRONMENTAL PROTECTION AGENCY (EPA)

35

Proposed Rule Stage

391. N-Methylpyrrolidone (NMP) and Methylene Chloride; Rulemaking Under TSCA Section 6(A)

Regulatory Plan: This entry is Seq. No. 125 in part II of this issue of the Federal Register.

RIN: 2070-AK07

392. Trichloroethylene (TCE); Rulemaking Under TSCA Section 6(A); Vapor Degreasing

Regulatory Plan: This entry is Seq. No. 126 in part II of this issue of the Federal Register.

RIN: 2070-AK11

ENVIRONMENTAL PROTECTION AGENCY (EPA)

35

Final Rule Stage

393. Formaldehyde Emission Standards for Composite Wood Products

Legal Authority: 15 U.S.C. 2697 Toxic Substances Control Act

Abstract: The EPA is developing a final rule under the Formaldehyde Standards for Composite Wood Products Act that was enacted in 2010 as title VI of Toxic Substances Control Act (TSCA), 15 U.S.C. 2697. In 2013, EPA issued a proposed rule to establish a framework for a TSCA title VI Third-Party Certification Program whereby third-party certifiers (TPCs) are accredited by accreditation bodies (ABs) so that they may certify composite wood product panel producers under TSCA title VI. That proposed rule identified the roles and responsibilities of the groups involved in the TPC process (EPA, ABs, and TPCs), as well as the criteria for participation in the program. EPA also proposed general requirements for TPCs, such as conducting and verifying formaldehyde emission tests, inspecting and auditing panel producers, and ensuring that panel producers' quality assurance and quality control procedures comply with the regulations set forth in the proposed rule. A separate proposed rule issued in 2013 under RIN 2070-AJ92 covered the implementation of the statutory formaldehyde emission standards for hardwood plywood, medium-density fiberboard, and particleboard sold, supplied, offered for sale, or manufactured (including imported) in the United States. Pursuant to TSCA section 3(7), the definition of “manufacture” includes import. As required by title VI, these regulations apply to hardwood plywood, medium-density fiberboard, and particleboard. TSCA title VI also directs EPA to promulgate supplementary provisions to ensure compliance with the emissions standards, including provisions related to labeling; chain of custody requirements; sell-through provisions; ultra low-emitting formaldehyde resins; no-added formaldehyde-based resins; finished goods; third-party testing and certification; auditing and reporting of third-party certifiers; recordkeeping; enforcement; laminated products; and exceptions from the requirements of regulations promulgated pursuant to this subsection for products and components containing de minimis amounts of composite wood products. As noted in the previously published Regulatory Agenda entry for each rulemaking, EPA has decided to issue a single final rule that addresses both of these proposals. As such, EPA also combined the entries for the Regulatory Agenda.

Timetable:

Action | Date | FR Cite
ANPRM | 12/03/08 | 73 FR 73620
Second ANPRM | 01/30/09 | 74 FR 5632
NPRM | 06/10/13 | 78 FR 34795
NPRM Comment Period Extended | 07/23/13 | 78 FR 44090
NPRM Comment Period Extended | 08/21/13 | 78 FR 51696
Final Rule | 11/00/16 |
Final Rule Effective | To Be Determined

Regulatory Flexibility Analysis Required: Yes.

Agency Contact: Robert Courtnage, Environmental Protection Agency, Office of Chemical Safety and Pollution Prevention, 7404T, 1200 Pennsylvania Avenue NW., Washington, DC 20460, Phone: 202 566-1081, Email: courtnage.robert@epa.gov.

Erik Winchester, Environmental Protection Agency, Office of Chemical Safety and Pollution Prevention, 7404T, Washington, DC 20460, Phone: 202 564-6450, Email: winchester.erik@epa.gov.

RIN: 2070-AJ44

ENVIRONMENTAL PROTECTION AGENCY (EPA)

60

Proposed Rule Stage

394. Financial Responsibility Requirements Under CERCLA Section 108(b) for Classes of Facilities in the Hardrock Mining Industry

Regulatory Plan: This entry is Seq. No. 130 in part II of this issue of the Federal Register.

RIN: 2050-AG61

[FR Doc. 2016-29915 Filed 12-22-16; 8:45 am]

BILLING CODE 6560-50-P